DEPARTMENT OF LABOR

Mine Safety and Health Administration

Petitions for Modification

The following parties have filed petitions to modify the application of existing safety standards under section 101(c) of the Federal Mine Safety and Health Act of 1977.

1. Hoffmann, Inc.

[Docket No. M-2003-076-C]

Hoffmann, Inc., 6001 49th Street South, Muscatine, Iowa 52761 has filed a petition to modify the application of 30 CFR 77.206(c) (Ladders; construction; installation and maintenance) to the Goals Coal Company's Goals Preparation Plant (MSHA I.D. No. 46-05317) located in Raleigh County, West Virginia. The petitioner is currently constructing a concrete silo at the Mine. The petitioner requests a modification of the standard to allow the use of ladder safety devices in lieu of backguards or ladder cages on temporary ladders installed for workers to access scaffold platforms during construction of the silo. The safety devices would consist of a full-body harness connected to an independent lifeline. Workers would be required to wear these devices while ascending or descending the ladders. The petitioner states that compliance with the existing standard is not feasible during construction of the silo, and the proposed alternative method would provide at least the same measure of protection as the existing standard.

2. Consolidation Coal Company

[Docket No. M-2003-077-C]

Consolidation Coal Company, 1800 Washington Road, Pittsburgh, Pennsylvania 15241-1421 has filed a petition to modify the application of 30 CFR 75.507 (Power connection points) to its Robinson Run #95 Mine (MSHA I.D. No. 46-01318) located in Harrison County, West Virginia. The petitioner requests a modification of the existing standard to permit non-permissible submersible pumps to be installed in bleeder and return entries and sealed areas of the Robinson Run #95 Mine. The petitioner asserts that the proposed alternative method would provide at least the same measure of protection as the existing standard.

3. Consol Pennsylvania Coal Company

[Docket No. M-2003-078-C]

Consol Pennsylvania Coal Company, 1800 Washington Road, Pittsburgh, Pennsylvania 15241-1421 has filed a petition to modify the application of 30 CFR 75.507 (Power connection points) to its Enlow Fork Mine (MSHA I.D. No. 36-07416) located in Greene County, Pennsylvania. The petitioner requests a modification of the existing standard to permit non-permissible submersible pumps to be installed in bleeder and return entries and sealed areas of the Enlow Fork Mine. The petitioner asserts that the proposed alternative method would provide at least the same measure of protection as the existing standard.

4. Glady Fork Mining, Inc.

[Docket No. M-2003-079-C]

Glady Fork Mining, Inc., P.O. Box 430, Buckhannon, West Virginia 26201 has filed a petition to modify the application of 30 CFR 75.364(b)(4) (Weekly examination) to its Mine No. 1 (MSHA I.D. No. 46-01162) located in Upshur County, West Virginia. The petitioner proposes to use an alternative method to examine the air in certain areas of the return air course. The petitioner states that there are nine seals within approximately 1000 feet that would be unsafe to travel for examination due to fallen walkway and deteriorating roof conditions. The petitioner proposes to check the air going into seals on the intake side in 3 locations, and return 1 location of the affected area, and check the quality of air entering the seals at 3 locations and return 1 location on a daily basis until all production has ceased and all equipment has been removed from the mine. The petitioner states that all air will be directed to the main return within approximately 1000 feet of the main fan and that its proposed alternative method for the Mine No. 1 would exceed the existing standard.

5. KenAmerican Resources, Inc.

[Docket No. M-2003-080-C]

KenAmerican Resources, Inc., 7590 State Route 181, Central City, Kentucky 42330 has filed a petition to modify the application of 30 CFR 75.364(b)(2) (Weekly examination) to its Paradise #9 Mine (MSHA I.D. No. 15-17741) located in Muhlenberg County, Kentucky. The petitioner proposes to establish a Measuring Point Location in the Main East return at x-cut #10 (MPL 1B) and the ventilation entries at x-cut #7 (MPL C & D), and in the Main North return at x-cut #1. The petitioner asserts that the proposed alternative method would provide at least the same measure of protection as the existing standard.

6. Bowie Resources Limited

[Docket No. M-2003-081-C]

Bowie Resources Limited, P.O. Box 483, Paonia, Colorado 81428 has filed a petition to modify the application of 30 CFR 75.1002 (Installation of electric equipment and conductors; permissibility) to its Bowie No. 3 Mine (MSHA I.D. No. 05-04758) located in Delta County, Colorado. The petitioner requests a modification of the existing standard to permit the use of high-voltage continuous miners inby the last open crosscut and within 150 feet of the pillar workings. The petitioner asserts that the proposed alternative method would provide at least the same measure of protection as the existing standard.

Request for Comments

Persons interested in these petitions are encouraged to submit comments via e-mail to comments@msha.gov, or on a computer disk along with an original hard copy to the Office of Standards, Regulations, and Variances, Mine Safety and Health Administration, 1100 Wilson Boulevard, Room 2350, Arlington, Virginia 22209. All comments must be postmarked or received in that office on or before December 12, 2003. Copies of these petitions are available for inspection at that address.

Dated at Arlington, Virginia, this 5th day of November, 2003.
Marvin W. Nichols, Jr.,
Director, Office of Standards, Regulations, and Variances.

[FR Doc. 03-28247 Filed 11-10-03; 8:45 am]

BILLING CODE 4510-43-P